DEPARTMENT OF AGRICULTURE

Animal and Plant Health Inspection Service

7 CFR Part 301

[Docket No. 00-110-2]

West Indian Fruit Fly; Correction

AGENCY: Animal and Plant Health Inspection Service, USDA.

ACTION: Interim rule and request for comments; correction.

SUMMARY: We are correcting an error in the rule portion of an interim rule that quarantined a part of Cameron County, TX, because of the West Indian fruit fly and restricted the interstate movement of regulated articles from the quarantined area. The interim rule was published in the Federal Register on January 22, 2001, and was effective on January 12, 2001.

EFFECTIVE DATE: January 12, 2001.

FOR FURTHER INFORMATION CONTACT: Mr. Robert G. Spaide, Assistant Director, Invasive Species and Pest Management, PPQ, APHIS, 4700 River Road Unit 134, Riverdale, MD 20737-1236; (301) 734-8247.

SUPPLEMENTARY INFORMATION: On January 22, 2001, we published in the Federal Register (66 FR 6429-6436, Docket No. 00-110-1) an interim rule that quarantined a part of Cameron County, TX, because of the West Indian fruit fly and restricted the interstate movement of regulated articles from the quarantined area.

In the rule portion of the interim rule, § 301.98-1, in the definition for Day degrees, the formula used to establish day degrees was listed as:

(Minimum Daily Temp + Maximum Daily Temp)/2)−54°=Day Degrees. The formula should have read:

(Minimum Daily Temp + Maximum Daily Temp)/2)−59°=Day Degrees. This document corrects that error.

In FR Doc. 01-1618, published on January 22, 2001 (66 FR 6429-6436), make the following correction: On page 6434, in the first column, in § 301.98-1, the definition for Day degrees, correct “54°” to read “59°”.

Done in Washington, DC, this 16th day of April 2001.
Bobby R. Acord,
Acting Administrator, Animal and Plant Health Inspection Service.

[FR Doc. 01-9796 Filed 4-19-01; 8:45 am]

BILLING CODE 3410-34-U